DEPARTMENT OF ENERGY

Federal Energy Regulatory Commission

[Project No. 14791-001]

Ochoco Irrigation District; Notice of Intent To File License Application, Filing of Pre-Application Document, Approving Use of the Traditional Licensing Process

a. Type of Filing: Notice of Intent to File License Application and Request to Use the Traditional Licensing Process.

b. Project No.: 14791-001.

c. Date Filed: October 29, 2018.

d. Submitted By: Ochoco Irrigation District.

e. Name of Project: Bowman Dam Hydroelectric Project.

f. Location: At the existing Arthur R. Bowman Dam On the Crooked River, in Crook County, Oregon. The project would occupy 5 acres of federal lands administered by the U.S. Bureau of Reclamation.

g. Filed Pursuant to: 18 CFR 5.3 of the Commission's regulations.

h. Potential Applicant Contact: Bruce Scanlon, Manager, Ochoco Irrigation District, 1001 NW Deer Street, Prineville, OR 97754; (541) 447-6449; email at bruceoid@crestviewcable.com.

i. FERC Contact: Matt Cutlip at (503) 552-2762; or email at matt.cutlip@ferc.gov.

j. Ochoco Irrigation District filed its request to use the Traditional Licensing Process on October 29, 2018. Ochoco Irrigation Distrct provided public notice of its request on December 21, 2018. In a letter dated February 5, 2019, the Director of the Division of Hydropower Licensing approved Ochoco Irrigation District's request to use the Traditional Licensing Process.

k. With this notice, we are initiating informal consultation with the U.S. Fish and Wildlife Service under section 7 of the Endangered Species Act and the joint agency regulations thereunder at 50 CFR part 402. We are also initiating consultation with the Oregon State Historic Preservation Officer, as required by section 106, National Historic Preservation Act, and the implementing regulations of the Advisory Council on Historic Preservation at 36 CFR 800.2.

l. With this notice, we are designating Ochoco Irrigation District as the Commission's non-federal representative for carrying out informal consultation pursuant to section 7 of the Endangered Species Act; and consultation pursuant to section 106 of the National Historic Preservation Act.

m. Ochoco Irrigation District filed a Pre-Application Document (PAD; including a proposed process plan and schedule) with the Commission, pursuant to 18 CFR 5.6 of the Commission's regulations.

n. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: February 6, 2019.
Nathaniel J. Davis, Sr.,
Deputy Secretary.

[FR Doc. 2019-02085 Filed 2-11-19; 8:45 am]

BILLING CODE 6717-01-P